DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 7, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on October 2, 2019.
Donald P. Burger,
Chief, General Approvals and Permits Branch.

Application No. | Applicant | Regulation(s) affected | Nature of the special permits thereof
SPECIAL PERMITS DATA—Granted
4661-M | ALBEMARLE U.S. INC | 180.205(b), 180.205(c), 180.205(f), 180.205(g), 180.213 | To modify the special permit to authorize additional Class 3 hazmat.
9847-M | FIBA TECHNOLOGIES, INC | 173.302a(b)(2), 173.302a(b)(3), 173.302a(b)(4), 173.302a(b)(5), 180.205(c), 180.205(f), 180.205(g), 180.205(i), 180.209(a), 180.213 | To modify the special permit to authorize a ten year requalification cycle for cylinders manufactured in accordance with ISO 11120.
12382-M | AIR TRANSPORT INTERNATIONAL, INC | 172.101(j), 173.27(b)(2), 173.27(b)(3), 175.30(a)(1) | To modify the special permit to authorize an increase in Net Explosive Weight (NEW) from 2,000 pounds to 2,400 pounds.
15507-M | YIWU JINYU MACHINERY FACTORY | 173.304(a), 173.304(d) | To modify the special permit to authorize additional hazmat and to allow an increase in burst pressures.
16532-M | EQ INDUSTRIAL SERVICES, INC | 173.185(f)(2), 173.185(f)(3) | To modify the special permit to authorize cushioning material that is not non-combustible, non-conductive and absorbent.
20274-M | BOLLORE LOGISTICS USA INC | 172.101(j), 172.300, 172.400, 173.301, 173.302a(a)(1), 173.304a(a)(2) | To modify the special permit to authorize an additional manufacturing site for the cooling pipes.
20323-M | GENERAL DYNAMICS MISSION SYSTEMS, INC | 173.185(a)(1)(i) | To modify the special permit to authorize the transportation of prototype, and low-production lithium ion batteries contained in equipment.
20430-N | MINNESOTA COMMERCIAL RAILWAY COMPANY | 174.85 | To authorize the transportation by rail of hazardous materials without the use of buffer cars.
20495-N | Tk Services Inc | 173.54(a), 173.54(d) | To authorize the transportation in commerce of certain safety devices from storage facilities to facilities engaged in recycling or other disposition of the safety devices.
20709-M | DAIMLER AG | 172.101(j), 173.185(a) | To modify the special permit to authorize a new battery using an identical cell manufactured in China.
20820-N | UNION TANK CAR COMPANY | 180.509(e)(4) | To authorize the inspection and testing of tank car tanks using Alternating Current Field Measurement Technique (ACFMT non-destructive test method) in lieu of the methods in 49 CFR 180.509(e)(4).
20834-N | ECC CORROSION INC | 107.503(b), 107.503(c), 173.241, 173.242, 173.243, 178.345-1(d), 178.345-1(f), 178.345-2, 178.345-3, 178.345-4, 178.345-7, 180.405, 180.413 | To authorize the manufacture, marking, sale and use of non-DOT specification glass fiber reinforced plastic cargo tanks conforming with regulations applicable to DOT Specifications 407 and 412 for the transportation of hazardous materials in commerce.
20867-N | ADVANCED MATERIAL SYSTEMS CORPORATION | 172.203(a), 172.301(c), 173.302(f) | To authorize the manufacture, marking, sale and use of an ISO Standard 11119-2 cylinder, for the transportation in commerce of oxygen.
20881-N | ARKEMA INC. | 172.102(c)(7) | To authorize the transportation in commerce of certain Class 3 hazardous materials in non-UN portable tanks.
20904-N | Piston Automotive, L.L.C | 172.101(j) | To authorize the transportation of lithium ion batteries exceeding 35 kg net weight by cargo-only aircraft.
20908-N | KTMI Co., Ltd. | 172.203, 172.301(c), 172.704 | To authorize the use of ASTM A537 Class 1 material to be used to manufacture Non-Pressure Manway Nozzles for tank cars conforming to DOT regulations and the Association of American Railroad's rules, standards and recommended practices.
20911-N | TEN-E PACKAGING SERVICES, INC | 173.308(b) | To authorize the testing of lighter designs using an alternative testing scheme.
20914-N | SILK WAY WEST AIRLINES, LLC | 172.101(j), 173.27, 175.30(a)(1) | To authorize the transportation in commerce of explosives forbidden aboard cargo-only aircraft.
20929-N | LG CHEM WROCLAW ENERGY SP Z O O | 173.185(b)(5) | To authorize the transportation of lithium batteries by air which exceed the allowable weight limit (35 kg).
20934-N | SPACE EXPLORATION TECHNOLOGIES CORP | 172.300, 172.400, 173.302(a) | To authorize the transportation in commerce of spacecraft containing krypton, compressed in non-DOT specification cylinders.
SPECIAL PERMITS DATA—Denied
2709-M | COPPERHEAD CHEMICAL COMPANY, INC | 173.24(c), 173.54(e), 173.62, 177.834(l)(1) | To modify the special permit to remove the temperature-control requirement for shipments.
10915-M | LUXFER INC | 172.203(a), 172.301(c), 173.302a(a)(1), 173.304a(a)(1), 180.205 | To modify the special permit to authorize a change to the marking requirements of CFFC-14(b)(ii).
20291-N | BOARD OF REGENTS OF THE UNIVERSITY OF NEBRASKA | 171.2(k) | To authorize the transportation in commerce of packages of non-hazardous material identified as Category A infectious substances for purposes of shipping and packaging drills.
20854-N | MORGAN FUEL & HEATING CO., INC | 180.417(a)(3)(ii) | To authorize the transportation in commerce of MC 331 cargo tank manufactured after September 1, 1995 that is missing the cargo tank manufacturers Certificate of Compliance.
20921-N | Johnson Outdoors Gear LLC | 173.304a(a)(1), 173.304a(d)(3)(ii) | To authorize the transportation in commerce of non-DOT specification receptacles meeting the requirements of SP-16060 and SP-12562.
20933-N | KANTO DENKA KOGYO CO.,LTD |  | To authorize the transportation in commerce of certain Division 2.3 gases in DOT 3AA specification cylinders.
SPECIAL PERMITS DATA—Withdrawn
20919-N | VERSUM MATERIALS, INC | 173.338(a) | To authorize the transportation in commerce of tungsten hexafluoride in UN specification tubes.

[FR Doc. 2019-21888 Filed 10-7-19; 8:45 am]

BILLING CODE 4909-60-P